DEPARTMENT OF JUSTICE

Antitrust Division

Notice Pursuant to the National Cooperative Research and Production Act of 1993—Digital Manufacturing Design Innovation Institute

Notice is hereby given that, on March 31, 2021, pursuant to Section 6(a) of the National Cooperative Research and Production Act of 1993, 15 U.S.C. 4301 et seq. (“the Act”), Digital Manufacturing Design Innovation Institute (“DMDII”) has filed written notifications simultaneously with the Attorney General and the Federal Trade Commission disclosing changes in its membership. The notifications were filed for the purpose of extending the Act's provisions limiting the recovery of antitrust plaintiffs to actual damages under specified circumstances. Specifically, the following parties have joined DMDII:

Rich Brilliant Willing, Brooklyn, NY; University of North Carolina—Charlotte, Charlotte, NC; Cook County Government, Chicago, IL; The University of West Florida, Pensacola, FL; University of Pittsburgh, Pittsburgh, PA; Factory Scene, Pittsburgh, PA; Pashi, San Francisco, CA; 6clicks, Washington, DC; MPDV USA, Inc., Orland Park, IL; BreakPoint Labs, Falls Church, VA; The Intelligence Factory, Kirkwood, MO; SVA Illinois, Chicago, IL; Automation Workz, Detroit, MI; University of Tennessee—Knoxville, Knoxville, TN; Lynx Software Technologies, Inc., San Jose, CA; Gardner Spring, Tulsa, OK.

The following parties are no longer part of DMDII: Simio, Sewickley, PA; DevBridge, Chicago, IL.

No other changes have been made in either the membership or planned activity of the group research project. Membership in this group research project remains open, and DMDII intends to file additional written notifications disclosing all changes in membership.

On January 5, 2016, DMDII filed its original notification pursuant to Section 6(a) of the Act. The Department of Justice published a notice in the Federal Register pursuant to Section 6(b) of the Act on March 9, 2016 (81 FR 12525).

The last notification was filed with the Department on December 18, 2020. A notice was published in the Federal Register pursuant to Section 6(b) of the Act on January 8, 2021 (86 FR 1526).

Suzanne Morris,
Chief, Premerger and Division Statistics, Antitrust Division.

[FR Doc. 2021-08079 Filed 4-19-21; 8:45 am]

BILLING CODE P